ELECTION ASSISTANCE COMMISSION

Notice of Request for Public Comment on Proposed Working Group Policy

AGENCY: United States Election Assistance Commission.

ACTION: Notice: Request for public comment.

SUMMARY: The EAC seeks public comment on a proposed policy entitled “Proposed Working Group Policy.” This policy is designed to set procedures and requirements for the formation and use of working groups to assist the United States Election Assistance Commission in developing proposed policies, including advisories, guidance, opinions, regulations and rules regarding the implementation of the Help American Vote Act (HAVA) and the National Voter Registration Act of 1993 (NVRA). EAC issues this notice according to a policy adopted on September 18, 2008 that requires EAC to provide notice and an opportunity for public comment on, among other things, advisories being considered for adoption by the U.S. Election Assistance Commission.

DATES: Comments must be received by 5 p.m. EST on February 9, 2009.

ADDRESSES: Comments may be submitted: Via e-mail at havainfo@eac.gov, Via mail addressed to the U.S. Election Assistance Commission, 1225 New York Ave., NW., Suite 1100, Washington, DC 20005, or by fax at 202/566-3127. Commenters are encouraged to submit comments electronically and include “Working Group Policy” in the subject line, to ensure timely receipt and consideration.

Person to Contact for Information: Bryan Whitener, Telephone: (202) 566-3100.

SUPPLEMENTARY INFORMATION: The following is the complete text of the proposed Working Group Policy the EAC is seeking public comment on. The proposed policy may also be viewed on the EAC Web site at http://www.eac.gov.

Proposed Working Group Policy

I. Purpose

This document sets policy concerning the use, makeup and administration of working groups. For the purposes of this policy, a working group is a collection of persons with unique experience and expertise gathered to provide their individual opinions on matters impacting EAC's mission. Working groups do not vote or otherwise provide a consensus opinion on matters presented. They are assembled either to provide individual advice on a common issue or exchange information. Working groups are not permanent and meet only for a limited purpose and time.

The United States Election Assistance Commission (EAC) believes that seeking diverse input from qualified individuals is critical to developing sound public policy. As EAC works meet its mission under the Help America Vote Act of 2002 (HAVA) and the National Voter Registration Act of 1993 (NVRA) the agency must utilize the experience of technical experts, election administrators and nongovernmental organizations in developing its policies.

II. Roles and Responsibilities

The Executive Director is hereby directed to develop internal procedures concerning the use, make-up, administration and product of working groups. These procedures must reflect and implement the policy goals adopted in this directive.

III. Membership, Use and Product of Working Group

Diversity of Opinion and Membership. The membership of EAC working groups shall reflect the diversity of opinion on a given issue. This commitment to diversity of opinion requires EAC staff to seek out new voices in the debate. Therefore, when reasonable, EAC will openly recruit candidates to be considered and may limit participation of an individual or organization in consecutive working groups. EAC has various important constituencies that should be represented on working groups formed under this policy. These may include state and local election officials, state and local legislative bodies and nongovernmental organizations. EAC working groups must include a fairly balanced membership. Members of the working group should represent a cross-section of the election or other communities that are directly affected by the topic under consideration and academics and/or technical experts who are uniquely qualified as appropriate to the nature and functions of the working group. The reasonable credibility of the individual and the organization represented will be considered in the selection process.

Limited Use. Working groups should only be used in the development of EAC policy or other matters where gathering of a variety of technical expertise or stakeholder opinions are essential to meeting agency objectives. Other determining factors for the creation of a working group shall include EAC's strategic plan and its annual operating budget, goals and objectives. The creation of working groups shall be subject to the approval of the Executive Director. Any request for a working group must be submitted to the Executive Director in writing and identify the need for the working group, the proposed charge of the working group, the identification of the various opinions or interests that must be represented, a proposed composition of the group, an approximate length of time that the working group will be in place.

Group Focus. Any working group established by the EAC must be provided a clear focus in the form of a written agenda or group mandate. Staff must be assigned to the group to facilitate discussion, maintain group focus and document opinion or facts expressed.

Publication of Working Group Discussion Points. In reporting on the activities of a working group, the EAC shall capture the opinions or facts expressed by the working group and make that information available to the Commissioners and EAC program staff for use in making a final policy determination. This information will also be made available to the public.

Gracia Hillman,
Commissioner, U.S. Election Assistance Commission.

[FR Doc. E9-197 Filed 1-8-09; 8:45 am]

BILLING CODE 6820-KF-P